DEPARTMENT OF TRANSPORTATION

Federal Aviation Administration

14 CFR Part 39

[Docket No. 2003-NE-68-AD]

RIN 2120-AA64

Airworthiness Directives; Becker Flugfunkwerk GmbH AR 4201 VHF AM Transceivers

AGENCY: Federal Aviation Administration (FAA), DOT.

ACTION: Notice of proposed rulemaking (NPRM).

SUMMARY: The FAA proposes to adopt a new airworthiness directive (AD) for certain Becker Flugfunkwerk GmbH AR 4201 VHF AM transceivers. This proposed AD would require adding an aircraft flight manual (AFM) limitation to the Limitations Section of the AFM, and cockpit placard due to the intermittent malfunctioning of the transceiver, or removing the affected transceiver from service. This proposed AD results from reports of crewmembers having difficulty communicating with Air Traffic Control and other aircraft due to the AR 4201 VHF AM transceiver's inability to block interference from transmitters operating on frequencies other than those set in the transceiver. We are proposing this AD to prevent difficulty in communicating with Air Traffic Control and other aircraft due to intermittent malfunctioning of the transceiver.

DATES: We must receive any comments on this proposed AD by July 19, 2004.

ADDRESSES: Use one of the following addresses to submit comments on this proposed AD:

• By mail: Federal Aviation Administration (FAA), New England Region, Office of the Regional Counsel, Attention: Rules Docket No. 2003-NE-68-AD, 12 New England Executive Park, Burlington, MA 01803-5299.

• By fax: (781) 238-7055.

• By e-mail: 9-ane-adcomment@faa.gov.

You may examine the AD docket at the FAA, New England Region, Office of the Regional Counsel, 12 New England Executive Park, Burlington, MA.

FOR FURTHER INFORMATION CONTACT: David Setser, Aerospace Engineer, Boston Aircraft Certification Office, FAA, Engine and Propeller Directorate, 12 New England Executive Park, Burlington, MA 01803-5299; telephone (781) 238-7173; fax (781) 238-7170.

SUPPLEMENTARY INFORMATION:

Comments Invited

We invite you to submit any written relevant data, views, or arguments regarding this proposal. Send your comments to an address listed under ADDRESSES. Include “AD Docket No. 2003-NE-68-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

The Luftfahrt-Bundesamt (LBA), which is the airworthiness authority for Germany, recently notified the FAA that an unsafe condition may exist on Becker Flugfunkwerk GmbH AR 4201 VHF AM transceivers with certain serial numbers (SNs). The LBA advises that these transceivers incorrectly respond to strong signals and to interference from transmitters operating on frequencies other than those set in the transceiver. The incorrect response can create a potentially hazardous situation by causing interference with communications with ATC and with other aircraft. The LBA advises that if operators choose not to remove affected transceivers from service, then a limitation stating “Usage of Becker Comm Equipment AR 4201 is restricted to VFR operations”, must be inserted into the AFM Limitations Section, and placarded in the cockpit. The LBA also advises that affected transceivers may be modified in accordance with Becker Flugfunkwerk GmbH Service Bulletin No. AR 4201-01/03, dated July 22, 2003, after which the owner or operator may remove the VFR-only placards and flight manual limitation.

Relevant Service Information

We have reviewed and approved the technical contents of Becker Flugfunkwerk GmbH Service Bulletin (SB) No. AR 4201-01/03; dated July 22, 2003. This SB identifies the serial numbers of transceivers affected and describes modifications to be done by the manufacturer to correct the transceiver problem. The LBA issued airworthiness directive 2003-234, dated August 21, 2003, in order to ensure the airworthiness of aircraft using these transceivers in Germany.

FAA's Determination and Requirements of the Proposed AD

These Becker Flugfunkwerk GmbH AR 4201 VHF AM transceivers, manufactured in Germany, are approved for use on airplanes that are type-certificated for operation in the United States under the provisions of section 21.617 of the Federal Aviation Regulations (14 CFR 21.617) and the applicable bilateral airworthiness agreement. Pursuant to this bilateral airworthiness agreement, the LBA has kept us informed of the situation described above. We have examined the LBA's findings, reviewed all available information, and determined that AD action is necessary for products of this type design that are certificated for operation in the United States. Therefore, we are proposing this AD, which would require the following within five days after the effective date of the proposed AD:

• Add a limitation to the AFM Limitations Section, and a cockpit placard that restricts use to only VFR operations, or

• Remove the affected transceiver from service.

Costs of Compliance

There are 9,349 Becker Flugfunkwerk GmbH AR 4201 VHF AM transceivers of the affected design in the worldwide fleet. There are about 1,000 transceivers installed on aircraft of U.S. registry. We estimate that it would take about 2 work hours per transceiver to inspect and or remove a transceiver from service, and that the average labor rate is $65 per work hour. The average retail cost of an AR 4201 transceiver is $1,149. If all transceivers were replaced, the total purchase cost would be about $1,149,000. Based on these figures, the total cost of the proposed AD to U.S. operators to replace transceivers is estimated to be $1,279,000.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-68-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Becker Flugfunkwerk GmbH: Docket No. 2003-NE-68-AD.

Comments Due Date

(a) The Federal Aviation Administration (FAA) must receive comments on this airworthiness directive (AD) action by July 19, 2004.

Affected ADs

(b) None.

Applicability

(c) This AD applies to Becker Flugfunkwerk GmbH AR 4201 VHF AM transceivers, with serial numbers (SNs) 0150 through 9499.

Unsafe Condition

(d) This AD results from reports of crewmembers having difficulty communicating with Air Traffic Control and other aircraft due to the AR 4201 VHF AM transceiver's inability to block interference from transmitters operating on frequencies other than those set in the transceiver. We are issuing this AD to prevent difficulty in communicating with Air Traffic Control and other aircraft due to intermittent malfunctioning of the transceiver.

Compliance

(e) You are responsible for having the actions required by this AD performed within five days after the effective date of this AD, unless the actions have already been done.

(f) For installed Becker Flugfunkwerk GmbH AR 4201 VHF AM transceivers, inspect the SN. If the transceiver does not have an affected SN, no further action is required.

(g) If the transceiver has an affected SN, and does not have Change Index 02 or higher index number marked on it, do the following:

(1) Add an aircraft flight manual (AFM) limitation to the Limitations Section of the AFM, that restricts transceiver usage to VFR operations, and add a placard to the cockpit within view of the pilot that states, in ¼ inch-high or higher characters, “Use of Becker Comm Equipment AR 4201 is restricted to VFR operations”; or

(2) Remove the transceiver from service.

(h) After the effective date of this AD, do not install any Becker Flugfunkwerk GmbH AR 4201 VHF AM transceiver with an affected SN that does not have Change Index 02 or higher index number marked on it, unless it was removed to determine the SN or to check for Change Index 02 or higher index number.

Terminating Action

(i) If you later install a transceiver that is not listed in this AD or install a transceiver that is marked with Change Index 02 or higher index number, remove the limitation from the Limitations Section of the AFM, and placard if present, that are specified in paragraph (g)(1).

Alternative Methods of Compliance

(j) The Manager, Boston Aircraft Certification Office, has the authority to approve alternative methods of compliance for this AD if requested using the procedures found in 14 CFR 39.19.

Material Incorporated by Reference

(k) None.

Related Information

(l) LBA airworthiness directive No. 2003-234, dated August 21, 2003, and Becker Flugfunkwerk GmbH Service Bulletin No. AR 4201-01/03; dated July 22, 2003, also pertain to the subject of this AD.

Issued in Burlington, Massachusetts, on May 13, 2004.
Peter A. White,
Acting Manager, Engine and Propeller Directorate, Aircraft Certification Service.

[FR Doc. 04-11410 Filed 5-19-04; 8:45 am]

BILLING CODE 4910-13-P